NUCLEAR REGULATORY COMMISSION

[Docket No. 40-3392; License No. SUB-526; EA-12-157; NRC-2012-0244]

Confirmatory Order; In the Matter of Honeywell International Inc.; Metropolis, Illinois

I.

Honeywell International Inc. (Honeywell or Licensee) is the holder of Materials License No. SUB-526, issued by the U.S. Nuclear Regulatory Commission (NRC or the Commission) pursuant to Title 10 of the Code of Federal Regulations (10 CFR) part 40. Originally issued on December 17, 1958, the license has been renewed many times, most recently on May 11, 2007. The license authorizes the operation of Honeywell's Metropolis Works facility in accordance with the conditions specified therein. The facility is located in Metropolis, Illinois.

II.

From May 21 through 24, 2012, an NRC inspection was conducted at the Metropolis Works facility pursuant to NRC Temporary Instruction (TI) 2600/015, “Evaluation of Licensee Strategies for the Prevention and/or Mitigation of Emergencies at Fuel Facilities.” The objective of the TI inspection was to independently verify that Honeywell is adequately prepared to prevent and/or mitigate the consequences of selected safety/licensing basis events and to evaluate the adequacy of those emergency prevention and/or mitigation strategies for dealing with the consequences of selected beyond-safety/licensing basis events. At the time of the inspection, the Metropolis Works facility had been shut down since May 9, 2012, for a planned maintenance outage.

The inspection identified significant concerns related to Honeywell's Uranium Hexafluoride (UF6) and Hydrogen Fluoride (HF) source terms, used as a basis for the Honeywell Emergency Response Plan (ERP). Specifically, the inspection identified that the design of the process equipment in the Feed Materials Building at the Metropolis Works facility lacks seismic restraints, supports, and bracing that would assure process equipment integrity during a credible seismic event or tornado. Because the Metropolis Works facility was shut down for a planned maintenance outage, no immediate safety concern existed. The NRC concluded, however, that the potential consequences of the inspection findings were significant. Specifically, when the Metropolis Works facility was operating, the amount of UF6 that could have been released during a credible seismic event or tornado was significantly larger than that assumed in the development of the facility's ERP.

The inspection results were documented in NRC Inspection Report No. 40-3392/2012-006, issued on August 9, 2012. At that time, the NRC identified two apparent violations.

First, contrary to 10 CFR 40.31(j)(3), on May 27, 2005, Honeywell submitted an ERP that did not include an identification of each type of accident for which protective actions may be needed. Specifically, the ERP submitted by Honeywell did not identify accident sequences related to credible seismic and tornado events that could result in large UF6 releases for which protective actions may be needed.

Second, contrary to 10 CFR 40.9(a), certain information Honeywell is required to maintain by license condition is not complete and accurate in all material respects. Under License Condition 18, Honeywell is required to conduct authorized activities at the Metropolis Work facility in accordance with the statements, representation, and conditions in its Integrated Safety Analysis (ISA) Summary (License Condition 18.D). The ISA Summary states, in part, that “the plant is designed to withstand the 475-yr earthquake with no safety implications.” The NRC's May 2012 inspection identified, however, that the ground motion associated with a 475-yr earthquake would have safety implications due to the design of the Metropolis Works facility. This apparent inaccuracy is material to the NRC because it involves information the NRC staff reasonably considers as part of its oversight of Honeywell as a licensee.

Concurrent with ongoing NRC review of the inspection results and to address immediate Agency concerns, on July 13, 2012, the NRC issued a Confirmatory Action Letter (CAL) to Honeywell. The CAL confirmed commitments made by Honeywell to ensure that, before licensed operations resumed, the Metropolis Works facility's ERP would be revised so that it is consistent with design and operational limitations for all potentially affected processes. This Confirmatory Order will supersede the CAL issued on July 13, 2012. This Order provides the basis for Honeywell to implement corrective actions prior to resuming NRC licensed operations.

III.

The NRC concludes that significant corrective actions at the Metropolis Work facility are necessary to provide reasonable assurance of public health and safety. The NRC further concludes that formalizing the corrective actions proposed by Honeywell necessitates the issuance of this Confirmatory Order. Consistent with Section 3.7 of the NRC's Enforcement Policy, the NRC is issuing this Confirmatory Order in lieu of issuance of a Notice of Violation and consideration of civil penalties for the apparent violations described above.

On October 11, 2012, Honeywell consented to issuance of this Order with the commitments described in Section IV below. Honeywell further agreed that this Order will be effective 30 days from issuance and waived its right to a hearing on this Order.

I find that the Licensee's commitments described in Section IV are acceptable and necessary and conclude that, with these commitments, the Metropolis Works facility's safety and the safety of the public is reasonably assured. In view of the foregoing, I have determined that public health and safety require that the Licensee's commitments be confirmed by this Order. Based on the above and the Licensee's consent, this Order will be effective 30 days from issuance. Contingent upon the Licensee satisfying its commitments under this Order, the NRC will not pursue further enforcement action based on the two apparent violations described in Section II of this Order.

IV.

Accordingly, pursuant to Sections 61, 63, 161b, 161i, 161o, 182 and 186 of the Atomic Energy Act of 1954, as amended, and the Commission's regulations in 10 CFR 2.202 and 10 CFR Part 40, it is hereby ordered that license no. SUB-526 IS modified as follows:

1. Honeywell shall submit to the Director, NRC Office of Nuclear Material Safety and Safeguards, the following documentation for review:

a. An evaluation of external events at the Metropolis Works facility that clearly defines and provides the safety bases for:

i. Seismic and wind design;

ii. The structures, systems, or components relied upon to protect workers and the public during both intermediate and high consequence events;

iii. The definitions of “intermediate-consequence event” and “high-consequence event” for non-radiological releases; and

iv. The definitions of “unlikely” and “highly unlikely” for seismic and wind events.

b. A revised ERP (License Condition 24) that, consistent with the evaluation produced in response to Item 1.a, defines all planning bases and articulates all necessary modifications to the Metropolis Works facility.

c. Documentation of the design bases for the proposed modifications to the Metropolis Works facility that will be needed to satisfy Items 1.a and 1.b (e.g., design criteria, engineering methodology, application of Codes and Standards).

2. Honeywell shall develop, implement, and have available for NRC inspection the quality assurance measures for the modifications referred to in Item 1.c. These quality assurance measures shall address, at a minimum, the following areas: design, procurement, inspections and tests, installation, document control, procedures and drawings, and records.

3. Honeywell shall implement the modifications referred to in Item 1.c before seeking to resume NRC-licensed operations at the Metropolis Works facility.

4. After Honeywell completes Items 1-3 and the NRC verifies the acceptability of the facility modifications referred to in Item 1.c, Honeywell may seek NRC approval to resume licensed operations at the Metropolis Works facility. Honeywell shall submit its request to the NRC in writing at least 30 days before it intends to resume licensed operations at the Metropolis Works facility. Honeywell shall not resume licensed operations until the NRC grants its request in writing.

5. At least 15 days before resuming licensed operations at the Metropolis Works facility, Honeywell shall demonstrate the adequacy of its revised ERP by conducting an onsite exercise meeting the requirements in 10 CFR 40.31(j)(3)(xii).

6. Honeywell shall submit a revised ISA Summary (License Condition 18.D) to the NRC no later than six months after resuming licensed operations at the Metropolis Works facility.

The Regional Administrator, NRC Region II, may relax or rescind, in writing, any of the above conditions upon a showing by Honeywell of good cause.

V.

Any person adversely affected by this Confirmatory Order, other than Honeywell, may request a hearing within 20 days of its publication in the Federal Register. Where good cause is shown, consideration will be given to extending the time to request a hearing. A request for extension of time must be made in writing to the Regional Administrator, Region II, U.S. Nuclear Regulatory Commission, 245 Peachtree Center Avenue NE., Suite 1200, Atlanta, GA, 30303-1257, and include a statement of good cause for the extension.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by email at hearing.docket@nrc.gov, or by telephone at 301-415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the NRC's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as Social Security numbers, home addresses, or home phone numbers in their filings, unless an NRC regulation or other law requires submission of such information. With respect to copyrighted works, except for limited excerpts that serve the purpose of the adjudicatory filings and would constitute a Fair Use application, participants are requested not to include copyrighted materials in their submission.

If a person (other than Honeywell) requests a hearing, that person shall set forth with particularity the manner in which his interest is adversely affected by this Confirmatory Order and shall address the criteria set forth in 10 C.F.R. 2.309(d) and (f).

If a hearing is requested by a person whose interest is adversely affected, the Commission will issue an order designating the time and place of any hearing. If a hearing is held, the issue to be considered at such hearing shall be whether this Confirmatory Order should be sustained.

In the absence of any request for hearing, or written approval of an extension of time in which to request a hearing, the provisions specified in Section IV above shall be final 20 days from the date this Confirmatory Order is published in the Federal Register without further order or proceedings. If an extension of time for requesting a hearing has been approved, the provisions specified in Section IV shall be final when the extension expires if a hearing request has not been received.

Dated this 15th day of October, 2012.
For the Nuclear Regulatory Commission.
Victor M. McCree,
Regional Administrator.

[FR Doc. 2012-26052 Filed 10-22-12; 8:45 am]

BILLING CODE 7590-01-P